DEPARTMENT OF EDUCATION

Applications for New Awards; Fund for the Improvement of Postsecondary Education—Tribal Controlled Colleges or Universities (TCCUs) Research and Development Infrastructure (RDI) Grant Program

AGENCY: Office of Postsecondary Education, Department of Education.

ACTION: Notice.

SUMMARY: The Department of Education (Department) is issuing a notice inviting applications for new awards for fiscal year (FY) 2024 for the RDI grant program.

DATES:

Applications Available: July 18, 2024.

Deadline for Transmittal of Applications: September 16, 2024.

Deadline for Intergovernmental Review: November 15, 2024.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Jason Cottrell, Ph.D., U.S. Department of Education, 400 Maryland Avenue SW, Room 5C122, Washington, DC 20202-4260. Telephone: (202) 453-7530. Email: Jason.Cottrell@ed.gov.

If you are deaf, hard of hearing, or have a speech disability and wish to access telecommunications relay services, please dial 7-1-1.

SUPPLEMENTARY INFORMATION:

Full Text of Announcement

I. Funding Opportunity Description

Purpose of Program: The RDI grant program is designed to provide Historically Black Colleges and Universities (HBCUs), TCCUs, and Minority-Serving Institutions (MSIs), including Asian American and Native American Pacific Islander Serving Institutions (AANAPISIs), Alaska Native and Native Hawaiian Serving Institutions (ANNH), Hispanic Serving Institutions (HSIs), Native American Serving Non-Tribal Institutions (NASNTIs), and/or Predominantly Black Institutions (PBIs), or consortia led by an eligible institution of higher education (institution), with funds to implement transformational investments in research infrastructure, including research productivity, faculty expertise, graduate programs, physical infrastructure, human capital development, and partnerships leading to increases in external funding.

For HBCUs and MSIs, the RDI grant program supports institutions in increasing their level of research activity in alignment with the Carnegie Classification designations. For TCCUs, which currently have their own Carnegie Classification, this program seeks to support an increase in research activities, undergraduate research opportunities, faculty development, research development, and infrastructure, including physical infrastructure and human capital development.

Assistance Listing Number: 84.116H.

OMB Control Number: 1894-0006.

Background: TCCUs provide access to a postsecondary education for many of the Nation's American Indian and Alaska Native students. In the fall of 2021, the 35 Title IV degree-granting TCCUs enrolled over 13,000, or 14 percent of, American Indian and Alaska Native undergraduate students.¹ Between July 2021 and June 2022, 20 of those TCCUs cumulatively conferred 380 bachelor's degrees to American Indian and Alaska Native students, representing 87.4 percent of all bachelor's degrees conferred by TCCUs.²

¹ U.S. Department of Education, IPEDS, Fall Enrollment component.

² U.S. Department of Education, IPEDS, Completions component.

Because of their central role in educating American Indian and Alaska Native students, it is important for TCCUs to have the resources they need to excel in research activity. Teaching and research go hand in hand in ensuring student ³ and institutional success.⁴ Research activity can impact funding, faculty and student recruitment and retention, and student research opportunities, and promote diversity in graduate students and faculty at an institution.

³ NSSE. (n.d.). Digging Deeper Into the Quality of High-Impact Practices: HIPs Must be “Done Well” to Achieve Benefits.

⁴ Rosowsky, D. (2022, March 2). The Role of Research at Universities: Why it Matters. In Forbes.com.

TCCUs play a critical role in educating Native students and provide opportunities to produce research on American Indian issues from an American Indian and Alaska Native perspective.⁵ According to the National Academies, data provided to their committee looking at MSIs and Science, Technology, Engineering, and Mathematics (STEM) showed that 93 percent of the students enrolled in STEM programs at four-year TCCUs in the fall of 2016 were Native American and Alaska Natives.⁶

⁵ Stull, G., Spyridakis, D., Gasman, M., Castro Samayoa, A., & Booker, Y. (2015). Redefining Success: How Tribal Colleges and Universities Build Nations, Strengthen Sovereignty, and Persevere Through Challenges.

⁶ Espinosa, L.L., McGuire, K., Miles Jackson, L. (2019). Minority Serving Institutions: America's Underutilized Resource for Strengthening the STEM Workforce.

However, TCCUs face obstacles in their efforts to sustain and implement extensive research activities. Administrations often have difficulty maintaining research activities due to the young nature of the institutions and their lack of research support offices.⁷ One study found that TCCUs' biggest obstacles in developing research activities are scheduling, infrastructure needs (i.e., lack of space, equipment, and literature), partnership challenges (i.e., lack of Tribal community knowledge), faculty capacity, and mistrust inside and outside of Tribal communities.⁸ Additionally, recent events like the COVID-19 pandemic have further demonstrated and exacerbated barriers to improvement, including technology infrastructure, funding constraints (i.e., long-term funding),⁹ and isolation (i.e., remote areas).¹⁰ However, one study found that the potential benefits of research activities for faculty and student development—such as knowledge production and dissemination through conferences, collaborations, and presentations—may far outweigh the costs of overcoming these obstacles. For example, faculty have reported that research opportunities have allowed them to introduce to their classes new information that was not previously available. Additionally, many researchers emphasized that Tribal college research is “more culturally sensitive and community-grounded, both in the methods and in the results.” ¹¹ Therefore, we focus this competition on eligible TCCUs. In addition, the Department will make awards from unfunded applications submitted by HBCUs and MSIs from the FY2023 RDI program grant competition with the remaining FY2024 available funds.

⁷ Riley, E.T., Vadiee, N., & Ganguli, A. (2017). The Evolution of Research at Tribal Colleges and Universities. In Tribal College Journal, 29(2).

⁸ Mortensen, M. (2001). Survey of Tribal Colleges Reveals Research's Benefits, Obstacles. In Tribal College Journal, 13(2).

⁹ Redden, E. (2021, March 15). Trying Times for Tribal Colleges. In Inside Higher Ed.

¹⁰ Stull, G., Spyridakis, D., Gasman, M., Castro Samayoa, A., & Booker, Y. (2015). Redefining Success: How Tribal Colleges and Universities Build Nations, Strengthen Sovereignty, and Persevere Through Challenges.

¹¹ Mortensen, M. (2001). Survey of Tribal Colleges Reveals Research's Benefits, Obstacles. In Tribal College Journal, 13(2).

Priorities: This notice contains one absolute priority which is from the notice of final priorities, requirements, and definitions for this program published elsewhere in this issue of the Federal Register (2024 NFP).

Absolute Priority: For FY 2024 and any subsequent year in which we make awards from the list of unfunded applications from this competition, this notice contains one absolute priority. Under 34 CFR 75.105(c)(3), we consider only applications that meet this priority.

This priority is:

Funding for Tribal Controlled Colleges and Universities' Research and Development Infrastructure.

Projects proposed by TCCUs to improve their research and development activities, including infrastructure, faculty development, and academic programs.

Requirements: For FY 2024 and any subsequent year in which we make awards from the list of unfunded applications from this competition, the following requirements apply. The requirements are from the 2024 NFP.

Limitation on Grant Awards. The Department will only make awards to applicants that are not the individual or lead applicant in a current active grant from the RDI grant program.

Use of Funds: Grantees must conduct one or more of the following activities:

(1) Providing for the improvement of infrastructure existing on the date of the grant award, including deferred maintenance, or the establishment of new physical infrastructure, including instructional program spaces, laboratories, and research facilities relating to the fields of science, technology, engineering, the arts, mathematics, health, agriculture, education, medicine, law, and other disciplines.

(2) Hiring and retaining faculty, students, research-related staff, or other personnel, including research personnel skilled in operating, using, or applying technology, equipment, or devices to conduct or support research.

(3) Supporting research internships and fellowships for students, including undergraduate, graduate, and post-doctoral positions, which may include providing direct student financial assistance and other supports to such students.

Note: Under 20 U.S.C. 1138(d)(1), funds made available under FIPSE may not be used to provide direct financial assistance in the form of grants or scholarships to students who do not meet eligibility criteria under Title IV of the Higher Education Act of 1965, as amended (HEA).

(4) Creating new, or expanding existing, academic positions, including internships, fellowships, and post-doctoral positions, in fields of research for which research and development infrastructure funds have been awarded to the grantee under this program.

(5) Creating and supporting inter- and intra-institutional research centers (including formal and informal communities of practice) in fields of research for which research and development infrastructure funds have been awarded to the grantee under this program, including hiring staff, purchasing supplies and equipment, and funding travel to relevant conferences and seminars to support the work of such centers.

(6) Building new institutional support structures and departments that help faculty learn about, and increase faculty and student access to, Federal research and development grant funds and non-Federal academic research grants.

(7) Building data and collaboration infrastructure so that early findings and research can be securely shared to facilitate peer review and other appropriate collaboration.

(8) Providing programs of study and courses in fields of research for which research and development infrastructure funds have been awarded to the grantee under this program.

(9) Paying operating and administrative expenses for, and coordinating project partnerships with members of, the consortium on behalf of which the eligible institution has received a grant under this program, provided that grantees may not pay for the expenses of any R1 institutions that are members of the consortia.

(10) Installing or extending the life and usability of basic systems and components of campus facilities related to research, including high-speed broadband internet infrastructure sufficient to support digital and technology-based learning.

(11) Expanding, remodeling, renovating, or altering biomedical and behavioral research facilities existing on the date of the grant award that received support under section 404I of the Public Health Service Act (42 U.S.C. 283k).

(12) Acquiring and installing furniture, fixtures, and instructional research-related equipment and technology for academic instruction in campus facilities in fields of research for which research and development infrastructure funds have been awarded to the grantee under this program.

(13) Providing increased funding to programs that support research and development at the eligible institution that are funded by the National Institutes of Health, including through their Path to Excellence and Innovation program.

(14) Faculty professional development.

(15) Planning purposes.

Definition: The definition below applies to this competition and is from the 2024 NFP.

Tribal Controlled Colleges or Universities has the meaning ascribed it in section 316(b)(3) of the HEA.

Program Authority: 20 U.S.C. 1138-1138d.

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The 2024 NFP.

Note: The Department will implement the provisions included in the OMB final rule, OMB Guidance for Federal Financial Assistance, which amends 2 CFR parts 25, 170, 175, 176, 180, 182, 183, 184, and 200, on October 1, 2024. Grant applicants that anticipate a performance period start date on or after October 1, 2024 should follow the provisions stated in the OMB Guidance for Federal Financial Assistance (89 FR 30046, April 22, 2024) when preparing an application. For more information about these updated regulations please visit: https://www.cfo.gov/resources/uniform-guidance/.

II. Award Information

Type of Award: Discretionary grants.

Estimated Available Funds: $4,000,000.

Contingent upon the availability of funds and the quality of applications, we may make additional awards in subsequent years from the list of unfunded applications from this competition.

Estimated Average Size of Awards: $2,000,000.

Maximum Award Amount: $2,000,000 for a 48-month project period.

Estimated Number of Awards: 2.

Note: The Department is not bound by any estimates in this notice.

Project Period: Up to 48 months.

III. Eligibility Information

1. Eligible Applicants: Eligible applicants are TCCUs (as defined in this notice). Eligible applicants may apply individually or as lead applicants of a consortium with other eligible applicants and/or other partners such as an institution of higher education with an R1 Carnegie Classification, community colleges, or non-profit, industry, and philanthropic partners. The lead applicant must be an eligible applicant.

2. a. Matching Requirements and Exception: Grantees must provide a 1:1 match, which can include in-kind donations. The Secretary may waive the matching requirement on a case-by-case basis upon a showing of any of the following exceptional circumstances:

(i) The difficulty of raising matching funds for a program to serve an area with high rates of poverty in the lead applicant's geographic location, defined as a Census tract, a set of contiguous Census tracts, an American Indian Reservation, Oklahoma Tribal Statistical Area (as defined by the U.S. Census Bureau), Alaska Native Village Statistical Area or Alaska Native Regional Corporation Area, Native Hawaiian Homeland Area, or other Tribal land or county that has a poverty rate of at least 25 percent as determined every 5 years using American Community Survey 5-Year data;

(ii) Serving a significant population of students from low-income backgrounds at the lead applicant location, defined as at least 50 percent (or the eligibility threshold for the appropriate institutional sector available at https://www2.ed.gov/about/offices/list/ope/idues/eligibility.html) of degree-seeking enrolled students receiving need-based grant aid under Title IV of the HEA;

(iii) Significant economic hardship as demonstrated by low average educational and general expenditures per full-time equivalent undergraduate student at the lead applicant institution, in comparison with the average educational and general expenditures per full-time equivalent undergraduate student of institutions that offer similar instruction without need of a waiver, as determined by the Secretary in accordance with the annual process for designation of eligible Titles III and V institutions; or

(iv) Information that otherwise demonstrates a commitment to the long-term sustainability of the applicant's projects, such as evidence of a consortium relationship with an R1 institution, a State bond, State matching, planning documents such as a campus plan, multi-year faculty hiring plan, support of industry, Federal grants received, or a demonstration of institutional commitment that may include commitment from the institution's board. (2024 NFP)

Note: Applicants seeking a waiver of the matching requirement must provide the waiver request information outlined above within their application.

b. Indirect Cost Rate Information: A grantee's indirect cost reimbursement is limited to 8 percent of a modified total direct cost base. For more information regarding indirect costs, or to obtain a negotiated indirect cost rate, please see www.ed.gov/about/offices/list/ocfo/intro.html. (2024 NFP).

c. Administrative Cost Limitation: This program does not include any program-specific limitation on administrative expenses. All administrative expenses must be reasonable and necessary and conform to Cost Principles described in 2 CFR part 200 subpart E of the Guidance for Federal Financial Assistance.

3. Subgrantees: A grantee under this competition may not award subgrants to entities to directly carry out project activities described in its application.

4. Build America, Buy America Act: This program is subject to the Build America, Buy America Act (Pub. L. 117-58) domestic sourcing requirements. Accordingly, under this program, grantees and their subrecipients (subgrantees) and contractors may not use their grant funds for infrastructure projects or activities (e.g., construction, remodeling, and broadband infrastructure) unless—

(a) All iron and steel used in the infrastructure project or activity are produced in the United States;

(b) All manufactured products used in the infrastructure project or activity are produced in the United States; and

(c) All construction materials are manufactured in the United States.

Grantees may request waivers to these requirements by submitting a Build America, Buy America Act Waiver Request Form. For more information, including a link to the Waiver Request Form, see the Department's Build America Buy America Waiver website at: https://www2.ed.gov/policy/fund/guid/buy-america/index.html.

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs, which contain requirements and information on how to submit an application.

2. Submission of Proprietary Information: Given the types of projects that may be proposed in applications for the RDI grant program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We reference regulations outlining funding restrictions in the Applicable Regulations section of this notice. Additionally, no funds received by an institution of higher education under this section may be used to fund any activities or services provided by institutions that are not eligible as lead applicants in this competition.

5. Recommended Page Limit: The application narrative is where you, the applicant, address the selection criteria and the priority that reviewers use to evaluate your application. We recommend that you (1) limit the application narrative to no more than 50 pages and (2) use the following standards:

• A “page″ is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10-pitch (characters per inch).

• Use one of the following fonts: Times New Roman, Courier, Courier New, or Arial.

The recommended page limit does not apply to the cover sheet; the budget section, including the narrative budget justification; the assurances and certifications; the one-page abstract, the resumes, the bibliography, or the letters of support; or the waiver request for the matching requirement. However, the recommended 50-page limit does apply to all of the application narrative.

V. Application Review Information

1. Selection Criteria: The selection criteria for this competition are from 34 CFR 75.210. The points assigned to each criterion are indicated in the parentheses next to the criterion. An application may earn up to a total of 110 points based on the selection criteria. All applications will be evaluated based on the selection criteria as follows:

(a) Significance. (Maximum 25 points)

(1) The Secretary considers the significance of the proposed project.

(2) In determining the significance of the proposed project, the Secretary considers the following factors:

(i) The likelihood that the proposed project will result in system change or improvement. (up to 10 points)

(ii) The extent to which the proposed project involves the development or demonstration of promising new strategies that build on, or are alternatives to, existing strategies. (up to 5 points)

(iii) The importance or magnitude of the results or outcomes likely to be attained by the proposed project. (up to 10 points)

(b) Quality of the Project Design. (Maximum 30 points)

(1) The Secretary considers the quality of the project design.

(2) In determining the quality of the project design, the Secretary considers the following factors:

(i) The extent to which the goals, objectives, and outcomes to be achieved by the proposed project are clearly specified and measurable. (up to 5 points)

(ii) The extent to which the proposed activities constitute a coherent, sustained program of training in the field. (up to 5 points)

(iii) The extent to which the proposed project is designed to build capacity and yield results that will extend beyond the period of Federal financial assistance. (up to 5 points)

(iv) The extent to which the proposed project represents an exceptional approach to the priority or priorities established in the competition. (up to 5 points)

(v) The extent to which the proposed project will integrate with or build on similar or related efforts in order to improve relevant outcomes (as defined this notice), using nonpublic funds or resources. (up to 5 points)

(vi) The extent to which the proposed project will integrate with, or build on similar or related efforts, to improve relevant outcomes (as defined in this notice), using existing funding streams from other programs or policies supported by community, State, and Federal resources. (up to 5 points)

(c) Quality of Project Services. (Maximum 15 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability. (up to 5 points)

(3) In addition, the Secretary considers the following factors:

(i) The likely impact of the services to be provided by the proposed project on the intended recipients of those services. (up to 5 points)

(ii) The extent to which the technical assistance services to be provided by the proposed project involve the use of efficient strategies, including the use of technology, as appropriate, and the leveraging of non-project resources. (up to 5 points)

Note: For the purpose of this competition, technical assistance services could include, for example, technical assistance provided to faculty, staff, and students (at all levels) designed to increase research activities, including to expand institutional capacity to secure new funding, support student research experiences, or facilitate faculty professional development.

(d) Adequacy of Resources. (Maximum 15 points)

(1) The Secretary considers the adequacy of resources for the proposed project.

(2) In determining the adequacy of resources for the proposed project, the Secretary considers the following factors:

(i) The adequacy of support, including facilities, equipment, supplies, and other resources, from the applicant organization or the lead applicant organization. (up to 5 points)

(ii) The potential for the incorporation of project purposes, activities, or benefits into the ongoing program of the agency or organization at the end of Federal funding. (up to 5 points)

(iii) The potential for continued support of the project after Federal funding ends, including, as appropriate, the demonstrated commitment of appropriate entities to such support. (up to 5 points)

(e) Quality of the Management Plan. (Maximum 10 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks. (up to 5 points)

(ii) The adequacy of procedures for ensuring feedback and continuous improvement in the operation of the proposed project. (up to 5 points)

(f) Quality of the Project Evaluation. (Maximum 15 points)

(1) The Secretary considers the quality of the evaluation to be conducted of the proposed project.

(2) In determining the quality of the evaluation, the Secretary considers the following factors:

(i) The extent to which the methods of evaluation will provide timely guidance for quality assurance. (up to 5 points)

(ii) The extent to which the methods of evaluation will provide performance feedback and permit periodic assessment of progress toward achieving intended outcomes. (up to 5 points)

(iii) The extent to which the methods of evaluation include the use of objective performance measures that are clearly related to the intended outcomes of the project and will produce quantitative and qualitative data to the extent possible. (up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of three external reviewers will read, prepare a written evaluation of, and score all eligible applications using the selection criteria provided in this notice. The individual scores of the reviewers will be added and the sum divided by the number of reviewers to determine the peer review score. The Department may use more than one tier of reviews in evaluating applications. The Department will prepare a rank order of applications for the absolute priority based solely on the evaluation of their quality according to the selection criteria. The rank order of applications will be used to create a slate.

In the event there are two or more applications with the same final score in the rank order listing, and there are insufficient funds to fully support each of these applications, the Department will apply the following procedure to determine which application or applications will receive an award:

First Tiebreaker: The first tiebreaker will be the highest average score for the selection criterion titled “Adequacy of Resources.” If a tie remains, the second tiebreaker will be utilized.

Second Tiebreaker: The second tiebreaker will be the highest average score for the selection criterion titled “Significance.” If a tie remains, the third tiebreaker will be utilized.

Third Tiebreaker: The third tiebreaker will be the applicant with the highest percentage of Pell Grant students enrolled at the lead applicant institution based on the most recent IPEDS data available.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgement about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Guidance for Federal Financial Assistance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For purposes of Department reporting under 34 CFR 75.110, the Department will use the following program-level performance measures to evaluate the success of the RDI grant program:

(a) The annual research and development expenditures in:

(i) Science and engineering.

(ii) Non-science and engineering.

(b) Annual faculty development expenditures.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Nasser H. Paydar,
Assistant Secretary for Postsecondary Education.

[FR Doc. 2024-15538 Filed 7-17-24; 8:45 am]

BILLING CODE 4000-01-P